NUCLEAR REGULATORY COMMISSION

[Docket No. 52-026, NRC 2025-0085]

Southern Nuclear Operating Company, Inc.; Vogtle Electric Generating Plant, Unit 4; License Amendment Application; Withdrawal by Applicant

AGENCY: Nuclear Regulatory Commission.

ACTION: Notice.

SUMMARY: The U.S. Nuclear Regulatory Commission (NRC) has granted the request of Southern Nuclear Operating Company, Inc. (SNC) to withdraw its application dated May 1, 2025, for a proposed amendment to Combined License NPF-92. The proposed license amendment would have added a Note to Vogtle Electric Generating Plant (Vogtle), Unit 4, Technical Specification (TS) 3.7.6, “Main Control Room Emergency Habitability System (VES),” Action, Condition F to allow a one-time allowance to provide time to repair VES bottled air system valve leakage. More specifically, the proposed Note would allow a one-time 72-hour delay for the initiation of Required Actions F.1 and F.2 Completion Times for VES air system leakage repairs.

DATES: June 5, 2025.

ADDRESSES: Please refer to Docket ID NRC-2025-0085 when contacting the NRC about the availability of information regarding this document. You may obtain publicly available information related to this document using any of the following methods:

• Federal Rulemaking Website: Go to https://www.regulations.gov and search for Docket ID NRC-2025-0085. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. SNC's letter to the NRC dated May 1, 2025, “License Amendment Request: One-Time Allowance to Repair VES Bottled Air System Valve Leakage,” is available in ADAMS under Accession No. ML25121A336. SNC's letter to the NRC dated May 20, 2025, titled, “Withdraw License Amendment Request,” is available in ADAMS under Accession No. ML25140A974.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Zachary Turner, Office of Nuclear Reactor Regulation, U.S. Nuclear Regulatory Commission, Washington, DC 20555-0001; telephone: 301-415-2258; email: Zachary.Turner@nrc.gov.

SUPPLEMENTARY INFORMATION:

I. Discussion

The NRC has granted SNC's request dated May 20, 2025 (ADAMS Accession No. ML25140A974), to withdraw its application dated May 1, 2025 (ADAMS Accession No. ML25121A336), for a proposed amendment to Combined License NPF-92 for Vogtle, Unit 4, located in Burke County, GA.

The proposed license amendment would have added a Note to Vogtle, Unit 4, TS 3.7.6, “Main Control Room Emergency Habitability System (VES),” Action, Condition F to allow a one-time allowance to provide time to repair VES bottled air system valve leakage. The Note would have extended the initiation of Required Actions F.1 and F.2 Completion Times from discovery of Condition F entry when Condition F entry is a result of VES air system leakage repairs. The one-time allowance would have expired upon entry into MODE 4 on startup from the first refueling outage of Vogtle, Unit 4.

The proposed amendment was noticed in the Federal Register on May 15, 2025.

Dated: June 02, 2025.
For the Nuclear Regulatory Commission.
Zachary Turner,
Project Manager, Plant Licensing Branch II-1, Division of Operating Reactor Licensing, Office of Nuclear Reactor Regulation.

[FR Doc. 2025-10255 Filed 6-4-25; 8:45 am]

BILLING CODE 7590-01-P